DEPARTMENT OF DEFENSE

Office of the Secretary of Defense

Renewal of Federal Advisory Committee; Sunshine Act Meeting

AGENCY: DoD.

ACTION: Notice.

SUMMARY: Under the provisions of the Federal Advisory Committee Act of 1972, (5 U.S.C. Appendix, as amended), the Sunshine in the Government Act of 1976 (5 U.S.C. 552b, as amended), and 41 CFR 102-3.65, the Department of Defense gives notice that it is renewing the charter for the Board of Regents of the Uniformed Services University of the Health Sciences (hereafter referred to as the Board of Regents).

The Board of Regents, pursuant to 10 U.S.C. 2113, is a non-discretionary Federal advisory committee established to assist the Secretary of Defense in an advisory capacity in carrying out the Secretary's responsibility to conduct the business of the Uniformed Services University of the Health Sciences.

While 10 U.S.C. 2113(a) does not provide precise objectives and scope for the Board of Regents' assistance to the Secretary of Defense, past practice has been for the Board of Regents to assist in the areas of advice on academic and administrative matters that are critical to the full accreditation and successful operation of the University. Specific DoD expectations are outlined in DoD Instruction 5105.45 and in bylaws and policies developed by the Board of Regents.

Pursuant to 10 U.S.C. 2113(a), the Board of Regents is composed of: (a) Nine persons in the fields of health and health education who shall be appointed from civilian life by the President, by and with the advice and consent of the Senate; (b) the Secretary of Defense, or his designee, who shall be an ex officio member; (c) the surgeons general of the uniformed services, who shall be ex officio members; and (d) the Dean of the University, who shall be a nonvoting ex officio member.

The terms of the office for those members appointed by the President pursuant to 10 U.S.C. 2113(b) shall be six years except that: (a) any member appointed to fill a vacancy occurring before the expiration of the term for which his predecessor was appointed shall be appointed for the remainder of such term; (b) the terms of office of the members first taking office shall expire, as designated by the President at the time of the appointment; and (c) any member whose term of office has expired shall continue to serve until his successor is appointed.

The President shall designate one appointed member of the Board of Regents to serve as Chair. Members of the Board of Regents who are not full-time or permanent part-time Federal employees shall serve as Special Government Employees under the authority of 5 U.S.C. 3109, and, pursuant to 10 U.S.C. 2113(e), shall receive compensation of no more than $100 per day, as determined by the Secretary of Defense, in addition to travel expenses and per diem while serving away from their place of residence.

The Board of Regents shall meet at the call of the Designated Federal Officer, in consultation with the Chair and the President of the University. The Designated Federal Officer shall be a full-time or permanent part-time DoD employee, and shall be appointed in accordance with established DoD policies and procedures. The Designated Federal Officer or Alternate Designated Federal Officer shall attend all Board of Regents' meetings and subcommittee meetings.

The Board of Regents is authorized to establish subcommittees and workgroups, as necessary and consistent with its mission. Board of Regents subcommittees and workgroups shall operate under the provisions of 5 U.S.C., Appendix, as amended, the Sunshine in the Government Act of 1976 (5 U.S.C. 552b, as amended) and other appropriate Federal regulations.

Board of Regents subcommittees and workgroups shall not work independently of the Board of Regents and shall report all their recommendations and advice to the Board of Regents for full deliberation and discussion. Board of Regents subcommittees and workgroups have no authority to make decisions on behalf of the Board of Regents and may not report directly to the Department of Defense or any Federal officers or employees who are not Board of regents members.

Pursuant to 41 CFR 102-3.105(j) and 102-3.140, the public or interested organizations may submit written statements to the Board of Regents about its mission and functions. Written statements should be submitted to the advisory committee's Designated Federal Officer for consideration by the membership of the Board of Regents. The advisory committee's Designated Federal Officer contact information can be obtained from the GSA's FACA Database— https://www.fido.gov/facadatabase/public.asp.

FOR FURTHER INFORMATION CONTACT: Frank Wilson, DoD Committee Management Officer, 703-601-2554.

Dated: April 4, 2007.
L.M. Bynum,
Alternate OSD Federal Register Liaison Officer, Department of Defense.

[FR Doc. 07-1753 Filed 4-5-07; 11:51 am]

BILLING CODE 5001-06-M